DEPARTMENT OF COMMERCE

Foreign-Trade Zones Board

[B-52-2020]

Foreign-Trade Zone 38—Spartanburg County, South Carolina; Application for Production Authority; Teijin Carbon Fibers, Inc.; Extension of Rebuttal Comment Period

The rebuttal period for the amended application for production authority within FTZ 38 on behalf of Teijin Carbon Fibers, Inc., in Greenwood, South Carolina, submitted by the South Carolina State Ports Authority (85 FR 49359, August 13, 2020), is being extended to July 2, 2021, based on a request from the applicant, to allow additional time for the submission of rebuttal comments. Submissions shall be addressed to the Board's Executive Secretary and sent to: ftz@trade.gov.

For further information, contact Diane Finver at Diane.Finver@trade.gov or (202) 482-1367.

Dated: June 21, 2021.
Andrew McGilvray,
Executive Secretary.

[FR Doc. 2021-13376 Filed 6-23-21; 8:45 am]

BILLING CODE 3510-DS-P